DEPARTMENT OF COMMERCE

International Trade Administration

[C-570-023, C-560-829]

Certain Uncoated Paper From the People's Republic of China and Indonesia: Initiation of Countervailing Duty Investigations

AGENCY: Enforcement and Compliance, International Trade Administration, Department of Commerce.

DATES: Effective Date: February 18, 2015.

FOR FURTHER INFORMATION CONTACT: Patricia Tran at (202) 482-1503 or Joy Zhang at (202) 482-1168 (People's Republic of China (PRC)); David Goldberger at (202) 482-4136 or Katherine Johnson at (202) 482-4929 (Indonesia), AD/CVD Operations, Enforcement and Compliance, International Trade Administration, U.S. Department of Commerce, 14th Street and Constitution Avenue NW., Washington, DC 20230.

SUPPLEMENTARY INFORMATION

The Petitions

On January 21, 2015, the Department of Commerce (Department) received countervailing duty (CVD) petitions concerning imports of certain uncoated paper from the PRC and Indonesia filed in proper form on behalf of United Steel, Paper and Forestry, Rubber, Manufacturing, Energy, Allied Industrial and Service Workers International Union; Domtar Corporation; Finch Paper LLC; P.H. Glatfelter Company; and Packaging Corporation of America (collectively, the petitioners). The CVD petitions were accompanied by antidumping duty (AD) petitions concerning imports of certain uncoated paper from Australia, Brazil, the PRC, Indonesia, and Portugal.¹ The petitioners are domestic producers of uncoated paper,² and a certified union with workers engaged in the manufacture and production of the domestic like product in the United States.³

¹ See “Petitions for the Imposition of Antidumping Duties on Imports of Certain Uncoated Paper from Australia, Brazil, China, Indonesia, and Portugal and Countervailing Duties on Imports from China and Indonesia,” dated January 21, 2015 (Petitions).

² See Volume I of the Petitions, at I-2 and Exhibit I-2.

³ Id. at, I-1—I-2 and Exhibit I-2.

On January 26 and 27, 2015, the Department requested information and clarification for certain areas of the Petitions.⁴ The petitioners filed responses to these requests on January 29 and 30, 2015.⁵

⁴ See Letter from the Department to the petitioners entitled “Petition for the Imposition of Countervailing Duties on Imports of Certain Uncoated Paper from the People's Republic of China (PRC): Supplemental Questions,” dated January 26, 2015 (PRC Deficiency Questionnaire); Letter from the Department to the petitioners, “Petitions for the Imposition of Antidumping Duties on Imports of Certain Uncoated Paper from Australia, Brazil, Indonesia, the People's Republic of China, and Portugal, and Countervailing Duties on Imports of Certain Uncoated Paper from Indonesia and the People's Republic of China: Supplemental Questions,” dated January 26, 2015 (General Issues Questionnaire); Letter from the Department to the petitioners entitled “Petition for the Imposition of Countervailing Duties on Imports of Certain Uncoated Paper from Indonesia: Supplemental Questions,” dated January 27, 2015 (Indonesia Deficiency Questionnaire); and Memorandum to the File entitled “Petitions for the Imposition of Countervailing Duties on Imports of Certain Uncoated Paper from the People's Republic of China: Addendum to Supplemental Questions,” dated January 27, 2015 (PRC Addendum).

⁵ See Letter from the petitioners entitled “Certain Uncoated Paper From The People's Republic Of China/Petitioners' Response To The Department's Questions Regarding The Petition,” dated January 29, 2015 (PRC CVD Supplement); Letter from the petitioners entitled “Certain Uncoated Paper From Indonesia/Petitioners' Response To The Department's Questions Regarding The Petition,” dated January 30, 2015 (Indonesia CVD Supplement); and Letter from the petitioners entitled “Certain Uncoated Paper From Australia, Brazil, The People's Republic of China, Indonesia, And Portugal/Petitioners' Response To The Department's General Questions Regarding The Petition,” dated January 30, 2015 (General Issues Supplement).

In accordance with section 702(b)(1) of the Tariff Act of 1930, as amended (“the Act”), the petitioners allege that the Government of the PRC (GOC) and the Government of Indonesia (GOI) are providing countervailable subsidies (within the meaning of sections 701 and 771(5) of the Act) to imports of certain uncoated paper from the PRC and Indonesia, respectively, and that such imports are materially injuring, or threatening material injury to, an industry in the United States. Also, consistent with section 702(b)(1) of the Act, the Petitions are accompanied by information reasonably available to the petitioners supporting their allegations.

The Department finds that the petitioners filed the Petitions on behalf of the domestic industry because the petitioners are interested parties as defined in sections 771(9)(C) and (D) of the Act. The Department also finds that the petitioners demonstrated sufficient industry support with respect to the initiation of the CVD investigations that the petitioners are requesting.⁶

⁶ See the “Determination of Industry Support for the Petitions” section below.

Period of Investigations

The period of the investigation for both the PRC and Indonesia is January 1, 2014, through December 31, 2014.⁷

⁷ 19 CFR 351.204(b)(2).

Scope of the Investigations

The product covered by these investigations is certain uncoated paper from the PRC and Indonesia. For a full description of the scope of these investigations, see the “Scope of the Investigations” in Appendix I of this notice.

Comments on Scope of the Investigations

During our review of the Petitions, the Department issued questions to, and received responses from, the petitioners pertaining to the proposed scope to ensure that the scope language in the Petitions would be an accurate reflection of the products for which the domestic industry is seeking relief.⁸

⁸ See General Issues Questionnaire; see also General Issues Supplement.

As discussed in the preamble to the Department's regulations,⁹ we are setting aside a period for interested parties to raise issues regarding product coverage (scope). The period for scope comments is intended to provide the Department with ample opportunity to consider all comments and to consult with parties prior to the issuance of the preliminary determinations. If scope comments include factual information (see 19 CFR 351.102(b)(21)), all such factual information should be limited to public information. All such comments must be filed by 5:00 p.m. Eastern Standard Time (“EST”) on March 2, 2015, which is 20 calendar days from the signature date of this notice. Any rebuttal comments, which may include factual information, must be filed by 5:00 p.m. EST on March 12, 2015, which is 10 calendar days after the initial comments deadline.¹⁰

⁹ See Antidumping Duties; Countervailing Duties; Final rule, 62 FR 27296, 27323 (May 19, 1997).

¹⁰ According to the Department practice, when a date falls on a weekend or a federal holiday, submissions become due the next business day; see Notice of Clarification: Application of “Next Business Day” Rule for Administrative Determination Deadlines Pursuant to the Tariff Act of 1930, As Amended, 70 FR 24533 (May 10, 2005).

The Department requests that any factual information the parties consider relevant to the scope of the investigations be submitted during this time period. However, if a party subsequently finds that additional factual information pertaining to the scope of the investigations may be relevant, the party may contact the Department and request permission to submit the additional information. All such comments must be filed on the records of the PRC and Indonesia CVD investigations, as well as the concurrent Australia, Brazil, the PRC, Indonesia, and Portugal AD investigations.

Filing Requirements

All submissions to the Department must be filed electronically using Enforcement and Compliance's Antidumping and Countervailing Duty Centralized Electronic Service System (ACCESS).¹¹ An electronically-filed document must be received successfully in its entirety by the time and date it is due. Documents excepted from the electronic submission requirements must be filed manually (i.e., in paper form) with Enforcement and Compliance's APO/Dockets Unit, Room 1870, U.S. Department of Commerce, 14th Street and Constitution Avenue NW., Washington, DC 20230, and stamped with the date and time of receipt by the applicable deadlines.

¹¹ On November 24, 2014, Enforcement and Compliance changed the name of Enforcement and Compliance's AD and CVD Centralized Electronic Service System (“IA ACCESS”) to AD and CVD Centralized Electronic Service System (ACCESS). The Web site location was changed from http://iaaccess.trade.gov to http://access.trade.gov. The Final Rule changing the reference to the Regulations can be found at 79 FR 69046 (November 20, 2014).

Consultations

Pursuant to section 702(b)(4)(A)(i) of the Act, the Department notified representatives of the GOC and the GOI of the receipt of the Petitions. Also, in accordance with section 702(b)(4)(A)(ii) of the Act, the Department provided representatives of the GOC and the GOI the opportunity for consultations with respect to the Petitions.¹² Consultations were held with the GOC on February 5, 2015. Consultations were held with the GOI on February 9, 2015. All memoranda are on file electronically via ACCESS.¹³

¹² See Letter of Invitation from the Department to the GOI dated January 21, 2015, and Letter of Invitation from the Department to the GOC dated January 26, 2015.

¹³ See supra fn.10 for information pertaining to ACCESS.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) poll the industry or rely on other information in order to determine if there is support for the petition, as required by subparagraph (A); or (ii) determine industry support using a statistically valid sampling method to poll the “industry.”

Section 771(4)(A) of the Act defines the “industry” as the producers as a whole of a domestic like product, or those producers whose collective output of a domestic like product constitutes a major proportion of the total domestic production of the product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁴ they do so for different purposes and pursuant to a separate and distinct authority. In addition, the Department's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, the petitioners do not offer a definition of the domestic like product distinct from the scope of the investigations. Based on our analysis of the information submitted on the record, we determined that uncoated paper constitutes a single domestic like product and we analyzed industry support in terms of that domestic like product.¹⁶

¹⁶ For a discussion of the domestic like product analysis in this case, see Countervailing Duty Investigation Initiation Checklist: Certain Uncoated Paper from the People's Republic of China (PRC CVD Initiation Checklist), at Attachment II, Analysis of Industry Support for the Petitions Covering Uncoated Paper from Australia, Brazil, the People's Republic of China, Indonesia, and Portugal (Attachment II); and Countervailing Duty Investigation Initiation Checklist: Certain Uncoated Paper from Indonesia (Indonesia CVD Initiation Checklist), at Attachment II. These checklists are dated concurrently with this notice and on file electronically via ACCESS. Access to documents filed via ACCESS is also available in the Central Records Unit, Room 7046 of the main Department of Commerce building.

In determining whether the petitioners have standing under section 702(c)(4)(A) of the Act, we considered the industry support data contained in the Petitions with reference to the domestic like product as defined in the “Scope of the Investigations,” in Appendix I of this notice. To establish industry support, the petitioners provided their shipments of the domestic like product in 2014, and compared their shipments to the estimated total shipments of the domestic like product for the entire domestic industry.¹⁷ Because total industry production data for the domestic like product for 2014 are not reasonably available and the petitioners have established that shipments are a reasonable proxy for production data,¹⁸ we relied upon the shipment data provided by the petitioners for purposes of measuring industry support.¹⁹

¹⁷ See Volume I of the Petitions, at I-2 through I-4 and Exhibit I-3; see also General Issues Supplement, at 5-8 and Exhibits I-S4 through I-S7.

¹⁸ See Volume I of the Petitions, at I-3 and Exhibit I-4.

¹⁹ For further discussion, see PRC CVD Checklist and Indonesia CVD Checklist, at Attachment II.

Based on the data provided in the Petitions, supplemental submission, and other information readily available to the Department, we determine that the petitioners have established industry support.²⁰ First, the Petitions established support from domestic producers (or workers) accounting for more than 50 percent of the total shipments ²¹ of the domestic like product and, as such, the Department is not required to take further action in order to evaluate industry support (e.g., polling).²² Second, the domestic producers (or workers) met the statutory criteria for industry support under section 702(c)(4)(A)(i) of the Act because the domestic producers (or workers) who support the Petitions account for at least 25 percent of the total shipments of the domestic like product.²³ Finally, the domestic producers (or workers) met the statutory criteria for industry support under section 702(c)(4)(A)(ii) of the Act because the domestic producers (or workers) who support the Petitions account for more than 50 percent of the shipments of the domestic like product produced by that portion of the industry expressing support for, or opposition to, the Petitions.²⁴ Accordingly, the Department determines that the Petitions were filed on behalf of the domestic industry within the meaning of section 702(b)(1) of the Act.

²⁰ Id.

²¹ As mentioned above, the petitioners have established that shipments are a reasonable proxy for production data. Section 351.203(e)(1) of the Department's regulations states “production levels may be established by reference to alternative data that the Secretary determines to be indicative of production levels.”

²² See section 702(c)(4)(D) of the Act; see also PRC CVD Checklist and Indonesia CVD Checklist, at Attachment II.

²³ Id.

²⁴ Id.

The Department finds that the petitioners filed the Petitions on behalf of the domestic industry because they are interested parties as defined in sections 771(9)(C) and (D) of the Act and they have demonstrated sufficient industry support with respect to the CVD investigations that they are requesting the Department initiate.²⁵

²⁵ Id.

Injury Test

Because Indonesia and the PRC are “Subsidies Agreement Countries” within the meaning of section 701(b) of the Act, section 701(a)(2) of the Act applies to these investigations. Accordingly, the ITC must determine whether imports of the subject merchandise from Indonesia and the PRC materially injure, or threaten material injury to, a U.S. industry.

Allegations and Evidence of Material Injury and Causation

The petitioners allege that imports of the subject merchandise are benefitting from countervailable subsidies and that such imports are causing, or threaten to cause, material injury to the U.S. industry producing the domestic like product. The petitioners allege that subject imports exceed the negligibility threshold of three percent provided for under section 771(24)(A) of the Act.²⁶ In CVD petitions, section 771(24)(B) of the Act provides that imports of subject merchandise from developing countries must exceed the negligibility threshold of four percent. The petitioners also demonstrate that subject imports from Indonesia, which has been designated as a developing country under section 771(36)(A) of the Act, exceed the negligibility threshold provided for under section 771(24)(B) of the Act.²⁷

²⁶ See Volume I of the Petitions, at I-23, I-24 and Exhibit I-12; see also General Issues Supplement, at 11 and Exhibit I-S11.

²⁷ Id.

The petitioners contend that the industry's injured condition is illustrated by reduced market share; underselling and price suppression or depression; lost sales and revenues; adverse impact on the domestic industry, including mill closures, decline in production, and decline in shipments; reduced employment variables; and adverse impact on financial performance.²⁸ We assessed the allegations and supporting evidence regarding material injury, threat of material injury, and causation, and we determined that these allegations are properly supported by adequate evidence and meet the statutory requirements for initiation.²⁹

²⁸ See Volume I of the Petitions, at I-22 through I-43 and Exhibits I-3 and I-10 through I-26; see also General Issues Supplement, at 1, 8-11 and Exhibits I-S1 and I-S8 through I-S13.

²⁹ See Indonesia CVD Initiation Checklist and PRC CVD Initiation Checklist, at Attachment III, Analysis of Allegations and Evidence of Material Injury and Causation for the Antidumping and Countervailing Duty Petitions Covering Certain Uncoated Paper from Australia, Brazil, the People's Republic of China, Indonesia, and Portugal.

Initiation of Countervailing Duty Investigations

Section 702(b)(1) of the Act requires the Department to initiate a CVD investigation whenever an interested party files a CVD petition on behalf of an industry that: (1) Alleges the elements necessary for an imposition of a duty under section 701(a) of the Act; and (2) is accompanied by information reasonably available to the petitioners supporting the allegations.

The petitioners allege that producers/exporters of certain uncoated paper in the PRC and Indonesia benefited from countervailable subsidies bestowed by the governments of these countries, respectively. The Department examined the Petitions and finds that they comply with the requirements of section 702(b)(1) of the Act. Therefore, in accordance with section 702(b)(1) of the Act, we are initiating CVD investigations to determine whether manufacturers, producers, or exporters of certain uncoated paper from the PRC and Indonesia receive countervailable subsidies from the governments of these countries, respectively.

The PRC

Based on our review of the petition, we find that there is sufficient information to initiate a CVD investigation on 21 of the 22 alleged programs. For a full discussion of the basis for our decision to initiate or not initiate on each program, see the PRC CVD Initiation Checklist.

Indonesia

Based on our review of the petition, we find that there is sufficient information to initiate a CVD investigation on 14 of the 15 alleged programs. For a full discussion of the basis for our decision to initiate or not initiate on each program, see the Indonesia CVD Initiation Checklist.

A public version of the initiation checklist for each investigation is available on ACCESS and at http://trade.gov/enforcement/news.asp.

In accordance with section 703(b)(1) of the Act and 19 CFR 351.205(b)(1), unless postponed, we will make our preliminary determinations no later than 65 days after the date of this initiation.

Respondent Selection

The petitioners named eight companies as producers/exporters of certain uncoated paper from the PRC and six companies as producers/exporters of certain uncoated paper from Indonesia.³⁰ Following standard practice in CVD investigations, the Department will, where appropriate, select respondents based on U.S. Customs and Border Protection (CBP) data for U.S. imports of uncoated paper during the period of investigation under the following Harmonized Tariff Schedule of the United States (“HTSUS”) numbers: 4802.56.1000, 4802.56.2000, 4802.56.3000, 4802.56.4000, 4802.56.6000, 4802.56.7020, 4802.56.7040, 4802.57.1000, 4802.57.2000, 4802.57.3000, and 4802.57.4000. We intend to release CBP data under Administrative Protective Order (APO) to all parties with access to information protected by APO shortly after the announcement of these case initiations. The Department invites comments regarding CBP data and respondent selection within five calendar days of publication of this Federal Register notice. Comments must be filed electronically using ACCESS. An electronically-filed document must be received successfully in its entirety by the Department's electronic records system, ACCESS, by 5 p.m. EST by the date noted above. We intend to make our decision regarding respondent selection within 20 days of publication of this Federal Register notice. Interested parties must submit applications for disclosure under APO in accordance with 19 CFR 351.305(b). Instructions for filing such applications may be found on the Department's Web site at http://enforcement.trade.gov/apo.

³⁰ See Volume I of the Petitions, at Exhibit I-7.

Distribution of Copies of the Petitions

In accordance with section 702(b)(4)(A)(i) of the Act and 19 CFR 351.202(f), copies of the public version of the Petitions have been provided to the GOC and GOI via ACCESS. To the extent practicable, we will attempt to provide a copy of the public version of the Petitions to each known exporter (as named in the Petitions), consistent with 19 CFR 351.203(c)(2).

ITC Notification

We notified the ITC of our initiation, as required by section 702(d) of the Act.

Preliminary Determinations by the ITC

The ITC will preliminarily determine, within 45 days after the date on which the Petitions were filed, whether there is a reasonable indication that imports of certain uncoated paper from the PRC and/or Indonesia are materially injuring, or threatening material injury to, a U.S. industry.³¹ A negative ITC determination for either country will result in the investigation being terminated with respect to that country;³² otherwise, these investigations will proceed according to statutory and regulatory time limits.

³¹ See section 703(a) of the Act.

³² Id.

Submission of Factual Information

On April 10, 2013, the Department published Definition of Factual Information and Time Limits for Submission of Factual Information: Final Rule, 78 FR 21246 (April 10, 2013), which modified two regulations related to AD and CVD proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all proceeding segments initiated on or after May 10, 2013, and thus are applicable to these investigations. Interested parties should review the final rule, available at http://enforcement.trade.gov/frn/2013/1304frn/2013-08227.txt, prior to submitting factual information in these investigations.

Revised Extension of Time Limits Regulation

On September 20, 2013, the Department modified its regulation concerning the extension of time limits for submissions in AD and CVD proceedings.³³ The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction information filed pursuant to 19 CFR 351.301(c)(3)(iv); (3) comments concerning the selection of a surrogate country and surrogate values and rebuttal; (4) comments concerning CBP data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013, and thus are applicable to these investigations. Interested parties should review Extension of Time Limits; Final Rule, available at http://www.gpo.gov/fdsys/pkg/FR-2013-09-20/html/2013-22853.htm, prior to submitting factual information in these investigations.

³³ See Extension of Time Limits; Final Rule, 78 FR 57790 (September 20, 2013).

Certification Requirements

Any party submitting factual information in an AD or CVD proceeding must certify to the accuracy and completeness of that information.³⁴ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁵ The Department intends to reject factual submissions if the submitting party does not comply with the applicable revised certification requirements.

³⁴ See section 782(b) of the Act.

³⁵ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act.
Dated: February 10, 2015.
Paul Piquado,
Assistant Secretary for Enforcement and Compliance.

Appendix I

Scope of the Investigations

The merchandise covered by these investigations includes uncoated paper in sheet form; weighing at least 40 grams per square meter but not more than 150 grams per square meter; that either is a white paper with a GE brightness level¹ of 85 or higher or is a colored paper; whether or not surface-decorated, printed (except as described below), embossed, perforated, or punched; irrespective of the smoothness of the surface; and irrespective of dimensions (Certain Uncoated Paper).

¹ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated groundwood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes.

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the investigations is dispositive.

[FR Doc. 2015-03337 Filed 2-17-15; 8:45 am]

BILLING CODE 3510-DS-P